DEPARTMENT OF HEALTH AND HUMAN SERVICES

National Institutes of Health

Center for Scientific Review; Amended Notice of Meeting

Notice is hereby given of a change in the meeting of the Lung Injury, Repair, and Remodeling Study Section, October 7, 2013, 8:00 a.m. to October 7, 2013, 6:30 p.m., Hyatt Regency Bethesda, One Bethesda Metro Center, 7400 Wisconsin Avenue, Bethesda, MD 20814 which was published in the Federal Register on September 10, 2013, 78 FR 175 pgs. 55268-55270.

The meeting will be held at the National Institutes of Health, 6701 Rockledge Dr., Bethesda, MD 20892. The meeting will start on November 01, 2013 at 9:00 a.m. and will end on November 03, 2013 at 5:00 p.m. The meeting is closed to the public.

Dated: October 24, 2013.
Carolyn A. Baum,
Program Analyst, Office of Federal Advisory Committee Policy.

[FR Doc. 2013-25653 Filed 10-29-13; 8:45 am]

BILLING CODE 4140-01-P